DEPARTMENT OF ENERGY

Federal Energy Regulatory Commission

Combined Notice of Filings #1

Take notice that the Commission received the following electric corporate filings:

Docket Numbers: EC13-151-000.

Applicants: Capital Power Investments LLC.

Description: Joint Application for Authorization of Disposition of Securities and Facilities Under Section 203 of the Federal Power Act, Request for Expedited Consideration and Waivers, and Request for Privileged Treatment of Capital Power Investments LLC.

Filed Date: 9/19/13.

Accession Number: 20130919-5161.

Comments Due: 5 p.m. ET 10/10/13.

Take notice that the Commission received the following electric rate filings:

Docket Numbers: ER10-1569-006; ER12-21-011; ER10-2783-007; ER10-2784-007; ER11-2855-011; ER10-2791-007; ER10-2792-007; ER10-1564-007; ER10-1565-007; ER10-2795-007; ER10-2798-007; ER10-1575-005; ER10-2799-007; ER13-1745-002; ER10-2888-007; ER10-2880-007; ER10-2879-007; ER10-2878-007; ER10-2876-007; ER10-1581-009; ER10-1568-007; ER10-2875-007; ER13-1136-005; ER10-2871-005; ER12-261-006; ER10-2846-007; ER12-1711-007; ER11-4307-007; ER11-2863-005; ER11-2508-006; ER10-2843-005; ER10-1291-008; ER10-2812-006; ER11-2062-007; ER12-2413-005; ER10-1566-007; ER11-3727-007; ER13-1803-003; ER13-1788-002; ER13-1789-002; ER13-1790-003; ER10-2896-007; ER10-2913-007; ER13-1791-002; ER13-1792-002; ER13-1746-004; ER10-2947-007; ER11-2857-011; ER13-2050-002; ER13-2020-002: ER13-2107-002; ER11-2856-011; ER10-1580-009; ER10-3143-008; ER10-2914-007; ER13-1799-002; ER13-1801-002; ER13-1802-002; ER10-2916-007; ER10-2915-007; ER12-1525-007; ER12-2019-006; ER10-1582-006; ER12-2398-006; ER11-3459-006; ER10-2931-007; ER13-1965-002; ER10-2969-007; ER11-4308-007; ER11-2805-006.

Applicants: NRG Power Marketing LLC, Agua Caliente Solar, LLC, Arthur Kill Power LLC, Astoria Gas Turbine Power LLC, Avenal Park LLC, Bayou Cove Peaking Power LLC, Big Cajun I Peaking Power LLC, Cabrillo Power I LLC, Cabrillo Power II LLC, Conemaugh Power LLC, Connecticut Jet Power LLC, CottonWood Energy Company LP, DEVON POWER LLC, Dunkirk Power LLC, El Segundo Energy Center LLC, El Segundo Power, LLC, Energy Alternatives Wholesale, LLC, Energy Plus Holdings LLC, GenConn Devon LLC, GenConn Energy LLC, GenConn Middletown LLC, GenOn Energy Management, LLC, GenOn Mid-Atlantic, LLC, Green Mountain Energy Company, High Plains Ranch II, LLC, Huntley Power LLC, Independence Energy Group LLC, Indian River Power LLC, Ivanpah Master Holdings, LLC, Keystone Power LLC, Long Beach Generation LLC, Long Beach Peakers LLC, Louisiana Generating LLC, MIDDLETOWN POWER LLC, Montville Power LLC, NEO Freehold-Gen LLC, Norwalk Power LLC, NRG Bowline LLC, NRG California South LP, NRG Canal LLC, NRG Chalk Point LLC, NRG Delta LLC, NRG Energy Center Dover LLC, NRG Energy Center Paxton LLC, NRG Florida LP, NRG Kendall LLC, NRG Marsh Landing LLC, NRG New Jersey Energy Sales LLC, NRG Potomac River LLC, NRG Power Midwest LP, NRG REMA LLC, NRG Rockford LLC, NRG Rockford II LLC, NRG Solar Alpine LLC, NRG Solar Avra Valley LLC, NRG Solar Blythe LLC, NRG Solar Borrego I LLC, NRG Solar Roadrunner LLC, NRG Sterlington Power LLC, NRG Wholesale Generation LP, OSWEGO HARBOR POWER LLC, Reliant Energy Northeast LLC, RRI Energy Services, Inc., Sabine Cogen, LP, Saguaro Power Company, A Limited Partner, Sand Drag LLC, Solar Partners I, LLC, Solar Partners II, LLC, Solar Partners VIII, LLC, Sun City Project LLC, Vienna Power LLC.

Description: Notice of Non-Material Change in Status of NRG MBR Entities.

Filed Date: 9/19/13.

Accession Number: 20130919-5166.

Comments Due: 5 p.m. ET 10/10/13.

Docket Numbers: ER13-75-003.

Applicants: Public Service Company of Colorado.

Description: 2013-09-20-OATT Order No. 1000 Compliance Filing to be effective 12/31/9998.

Filed Date: 9/20/13.

Accession Number: 20130920-5022.

Comments Due: 5 p.m. ET 10/21/13.

Docket Numbers: ER13-2403-000.

Applicants: Tucson Electric Power Company.

Description: Cancellation of WestConnect Experimental Tariff to be effective 11/18/2013.

Filed Date: 9/19/13.

Accession Number: 20130919-5069.

Comments Due: 5 p.m. ET 10/10/13.

Docket Numbers: ER13-2404-000.

Applicants: Shared Facilities Agreement between Desert Sunlight 250, 300, and Holdings to be effective 10/1/2013.

Filed Date: 9/19/13.

Accession Number: 20130919-5138.

Comments Due: 5 p.m. ET 10/10/13.

Docket Numbers: ER13-2405-000.

Applicants: Southwest Power Pool, Inc.

Description: Day-Ahead Virtual Energy Transaction Fee Revisions to be effective 3/1/2014.

Filed Date: 9/19/13.

Accession Number: 20130919-5159.

Comments Due: 5 p.m. ET 10/10/13.

Docket Numbers: ER13-2406-000.

Applicants: Next Utility Energy LLC.

Description: Next Utility Energy Market Based Rate Tariff to be effective 9/19/2013.

Filed Date: 9/19/13.

Accession Number: 20130919-5160.

Comments Due: 5 p.m. ET 10/10/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 20, 2013.
Nathaniel J. Davis, Sr.,
Deputy Secretary.

[FR Doc. 2013-23571 Filed 9-26-13; 8:45 am]

BILLING CODE 6717-01-P